DEPARTMENT OF DEFENSE

Department of the Army

[Docket ID USA-2022-HQ-0007]

Proposed Collection; Comment Request

AGENCY: U.S. Army Corps of Engineers, Department of the Army, Department of Defense (DoD).

ACTION: 60-Day information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 20, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Corps of Engineers, 441 G Street NW, Washington, DC 20314-1000, ATTN: Ms. Kathryn Nevins, or call 703-428-6440.

SUPPLEMENTARY INFORMATION: Title; Associated Form; and OMB Number: Shipper Interview for Gulf Intracoastal Waterway: Brazos River Flood Gates and Colorado River Locks Study; Form Number; OMB Control Number 0710-GIWW.

Needs and Uses: Information from the questionnaire is needed to formulate and evaluate alternative water resources development plans in accordance with the Principles and Guidelines for Water Related Land Resources Implementation Studies, promulgated by the U.S. Water Resources Council, 1983, which specifically identifies interviews with shippers, carriers and port officials as well as commodity consultants and experts to; identify commodity types, study area, commodity flow, estimate transportation cost and forecast waterway use.

The U.S. Army Corps of Engineers Galveston District, (SWG) seeks to conduct a survey of commercial shipping companies that use the Gulf Intracoastal Waterway (GIWW) to transport commodities along the Texas Coast. The area includes the crossings of the Brazos River and Colorado River in Texas. SWG will incorporate survey information into a General Investigation Feasibility Study Update of long term solutions to shoaling and allisions near the intersections of the GIWW and the Brazos and Colorado rivers that could result in a potential loss of the navigation pool at the flood gates and locks. As part of the study, we are surveying shippers that use the GIWW to help us better understand the potential economic effects of a long-term disruption in navigation through the area. Part of the study requires an examination of how shippers would respond if navigation crossing the Brazos River and Colorado River was restricted for an extended period, or if the flood gates and locks are widened. The survey will provide information to determine if tentative project costs would be justified by reducing risks of losing the navigation pool along the GIWW.

Affected Public: Businesses or other for-profit.

Annual Burden Hours: 50.

Number of Respondents: 50.

Responses per Respondent: 1.

Annual Responses: 50.

Average Burden per Response: 1 hour.

Frequency: Once.

Dated: March 15, 2022.
Aaron T. Siegel,
Alternate OSD Federal Register Liaison Officer, Department of Defense.

[FR Doc. 2022-05930 Filed 3-18-22; 8:45 am]

BILLING CODE 5001-06-P